DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending September 30, 2023. For purposes of this listing, long-term residents, as defined in section 877(e)(2), are treated as if they were citizens of the United States who lost citizenship.

Last name | First name | Middle name/initials
ABRAMS | BRIDGETTE | SHELLEY
ADAMS | COLIN | JAMES
ADSHEAD | ANDREW | PETER
AHMADI | RASOOL | ALI KHALIL
ALBAIR | MARTIN | DIETMAR
ALBERTI | ESTHER | ELAINA ANNE
ALBRECHT | ALINA | CELIA REBECCA
AL-DEGHAITHAR | HOSSA | MOHAMMAD
ALEXANDER | DONA | SUZANNE
ALFA | HANNA | ABOU
ALFRED | GERALD | ROBERT
ALICK | JUSTIN | HAMEED
ALLEN | ANTHONY | LEE
ALLEN | CAREY | THOMAS
ALLEN | DAVID | HAMISH
ALLENSPACH | ERIC | JACQUES
ALLENSPACH-BOLLER | MARIANNE
AL-SHAKARCHI | HEBA | MAZIN
ALVAREZ REDONDO | JORGE
ANDERSON | FRASER | DUNCAN
ANDRIEJANSSEN | PAULINE
ANG | MARK | ADAM TECSON
ANGUS | CATHERINE
AOYAMA | TAKASHI
APPS | SYLVANUS | CAMERON
ARMSTRONG | LOUISE | MARY PAULE
ARORA | PUNAM | RAJEEV
ARSCOTT | SIMON | N
ASTACIO | DORA
ATHUR | VARADAN | THIRUMALACHARY
ATKINSON | DIANE | LYNN
ATMADJA | STIBNIATI | SOERIA
AU | TONY | KING TUNG
AUBIN | FRANCINE
AUINGER | CHRISTIAN | NICHOLAS
BACLIG | CHRISTOPHER | JOHN
BAGGETT | MALIA
BAILEY | TERESA | MARIE
BAILLIE | GIGINA | VERA
BAKER | JOANNA | MARY
BALETKOVA | MARTINA
BANERJEE | SHEETAL | MEHTA
BANFI | NATALIA | IRMIN EDITH
BARAC | CHRISTOPHER | KUZMAN
BARAC-HEATH | JOY | LEILANI
BARBELLION | WENDY | COULSON
BARRETTE | RAYMOND
BASSA | DAVID
BAUCH | JONATHAN
BAXTER | SUZANNE | MICHELE
BAYLISS | HEATHER | THERESA
BAYRAMOV | ELVIN
BAYRAMOVA | ANNA
BAZIN | OLIVIER | WILLIAM
BEARSS | CAROLYN | LEE
BEELITZ | NINA | ISABELLE
BEEMER | NATHAN | EUGENE
BELANGER | ERIC | JOSEPH JEAN
BELL | CHRISTINE
BELLAVANCE | JEROME | YOUNG
BENBASSAT | GEORGE
BENINI | CHERYL | LYNNE-ELIZABETH
BENNER | SEIJU | A LEXANDER
BENNETT | MICHAEL | ERIK CASEY
BENSON | DAWNE | ANDREA
BER | HEDVA
BERARDI | JOHN | MICHAEL
BEREZIN | KATHLEEN | MARY
BERGER-PERRIN | SIMON | MARIE WINCENT
BERRIDGE | ERIK
BHATTACHARYA | JANE | CALDWELL
BICHSEL | JOANNA
BIEGEL | STEPHANIE | JESSICA
BIGGS | DIANA | COLLEEN
BIGNALL | THOMAS | GEORGE
BIONDA | JASON
BLANKENSHIP | GARRET | GENE HUGO
BLANK-UNIKOSKI | ANNAT
BLAUDIN DE THE | CATHERINE | MARIE-CHANTAL
BLIZZARD | ELIZABETH | ORDEMAN
BLOEM | CLAUDIA | ALICE
BLOMFIELD | ALEX | EDWARD
BLOMFIELD | HELEN | LAURA
BOEHLE | EVA | INGRID ADELHEID
BOIVIN | MICHELE | YUNG HEE
BOLAND | LOUISE | ELIZABETH
BOLES | SUZANNE | ALICA
BONIN | STEPHANIE | LOUISE
BOUCKAERT | CHARLES | ARTHUR MARIE CARL
BOWERS | BRETT | LAWSON
BRANAGAN | GREGORY | PAUL
BRESKI-THOMPSON | LARS
BRESKI-THOMPSON | OTTO
BRETON | JONATHAN
BRIDGES | ANNA | EMILIA
BRIDGES | TRACEY | GRAINGER
BRIGANTE | DAVID | PROSPERO
BRIGGS | SHARLENE | ISOBEL
BRINER | ALBERT | FELIX
BRODERICK | TERESA | MARGARET
BRODEUR | HELEN | DONALDA
BRODHEAD | DANIEL | EDGAR
BROMLEY | FREDERICK | ARTHUR
BROOKSHIRE | MICHAEL | JOHN
BROWN | COLLIN | JOHN
BROWN | MARSHA | KAY
BROWN | REBECCA | SUE
BROWN | ROBIN | LYNN
BROWN | VICENT | OLAF DAVID
BROWNE | COLLEEN | HAZEL
BRUCE | CARY | ALAN
BRYDEN | PAMELA | JOANNA
BUCH | MICHELLE | ELAINE
BUCHANNAN | WILLIAM | TAYLOR REID
BUCHWALD | HEIDE | MORGAN
BUCKALEW | JASON | ALLEN
BUNKER | STEPHEN | DEREK
BURDETT | ANDREW | COLIN
BURGESS | ROBERT | GORDON
BURTON | ALEXANDER | SASHA
BURTON | JOLYON | DAVID
BURY | CHRISTINA | ROOTH
CAMPBELL | SANDRA | MARY
CAMPLING | JULIE | ELISABETH
CANDY | LYNNE | CATHERINE
CAO | PATRICK | MINH
CAPORALE | MARCO
CARBINI | LAURA
CARBONNEAU | DANIELLE | AIMEE
CAREY | ISABEL | ELEANOR CLEMENTE
CARINI | CAROL | EILEEN
CARLSEN | TOM
CARVALHO | JOSEPH | ANTHONY JEAN PAUL
CARVALHO | RINA | MAREE
CASSAR | GEORGINA | PORTELLI
CASSIANO | LUISA | SCHERTAL
CASTLEDINE | ANNABEL | JEAN KILLEN
CELESTINO | TIAGO | DI PIERRO
CHADWICK | TERENCE | HARRY
CHAN | EDDIE | TAK HO
CHAN | ELEANOR | WAI KWAN
CHAN | JESSICA | LAI TONG
CHANDLESS | HELOISE | CHRISTIANE
CHANG | MEE | JA
CHANG | YU | SHAN
CHAO | WILLIAM | TZE TSUNG
CHAPMAN | JULIA | ELIZABETH
CHARALAMBOUS | MICHAEL | YIANNAKI
CHARLES | CATHERINE | GRAHAM
CHARLES | THOMAS | RITCHIE
CHAUDHRY | SOPHIA
CHEIKES | STEPHEN | GEORGE
CHEN | CHARLES | YUAN LIANG
CHEN | CHRISTINE
CHEN | IRENE | LI
CHENARD | JESSE | RAY
CHENG | DAVID
CHILTON | ADAM | DYLAN
CHISHOLM | ROBYN | MICHELLE
CHIU | SEEN | YUN SHARON
CHNG | TZE | PING
CHO | ALBERT | SOO CHANG
CHO | EUN | EUI
CHO | JOON | YEON
CHOI | JEONG | JOON
CHRISTIAN | DANIEL | ANDREWS
CHRISTIAN | KATHLEEN | ANDREWS
CHRISTIAN | SARAH | ANDREWS
CHRISTOFFERSEN | SKYLAR | JAMES MICHAEL
CHRISTOPHER | PER | A
CHUANG | STEVE | TZU HSIUNG
CHUN | JENNIFER
CIPOLLA | JOHN | MATTHEW
CLARKE | KIRSTEN | MARIE
CLARKE | SHELLEY | CATHERINE
CLARKE | STEVEN | RONALD
CLARKE | STUART | CHARLES
CLEGG | SUSAN | MICHELLE
CLENDENNING | JOANNE | ANNE
CLINESMITH | JESSICA | ELAINE
CLOTHIER | KAREN
COBB-CLARK | BRETT | WILLIAM
COBB-CLARK | DEBORAH | ANN
COBURN | SALLY | LOUISE
COELHI-RUEGG | MELINDA | BETH
COHEN | DANIELLE | KAREN MARCHANT
COLES | ELIZABETH | JOSEPHINE
COLLEDGE | BROOKE | SARAH
COLLEDGE | MARCUS | MICHAEL
COLLEDGE | SHAYNE | SKYE
COLLEY | ROBERT | LAWRENCE
CONDON | WARREN | JUDE
CONNELL | LISA | ANN
COOK | SIMON | ASHLEY
COOK (VAN TIL) | SHANNON | LEE
COPLEY | ERICA | AMY
COPP | ROSALIND | CHRISTINA
CORACE | JEFFREY | MICHAEL
CORNELISSEN | ERIK | JOHANNES
CORNELISSEN | MAUD | ANNEMARIE WILLEMIJ
CORNELISSEN NOOREN | EDITH | CORNELIA ANNA
CORNIES | GRAEME | ALEXANDER
COTTER | SUZANNE | MARY
COWAN | JENNIFER | LOUISE
COWPE | PENELOPE | ANNE
CRAMER | PAUL | HENRY
CRAWFORD | RAYNA | ELIZABETH
CRAWSHAW | ROBERT | BARNABY
CRELIER | REGIS | BERNARD JOSEPH
CROCKETT | PHILIP | DAVID
CROCKETT | SARAH | ELISABETH
CROLL | ANDREW | RICHARD
CROSS | THOMAS | SAMUEL
CZARNECKI | JOLENE | HEATH
D'AILLY | ANTOINE | JEAN
DALLENBACH | KIRAN | FAROOKI
DAR | RONEN
DAVIDSON | ANDREW | GEORGE
DAVIDSON | JAMES | EARL
DAVIDSON | MIRIAM | ELLEN
DAVIS | DANIEL | ROBERT
DAVIS | SARAH | MARGARET
DAWDY | KATHY | SUE
DAY | JANE | HELENA
DE MATTHAREL | LEILA | STEPHANIE
DE NAGRI | LILIANA | O
DEIBERT-ESDERS | MARC | JOSE
DELIGIANNIS | KONSTANTINOS | ANASTASIOU
DEMELIER | TAMMY
DEMUS | CARSTEN | OLIVER
DENCK | MICHAEL | ALEXANDER
DERICI | SALIH
DESHPANDE | ADVAIT | BGHARAT
DEUTSCH | DAVID | MICHAEL JAMES
DEWOLFE | CHRISTIAN | PAUL
DI BERARDINO | ANDREA
DI TOMASSO | MARIA
DIGNAM | ERIKA | LEE
DIONNE | SARAH | JOYCE MARGARET
DIR | RODNEY | DALE
DIXON | ANDREW | MASON
DOMANKO | ROBERT | STEVEN
DONALDSON | EMILY | GRACE
DONLON | BRENDAN | MARK
DOODY | DALE | KATHRINE
DOOLEY | JESSICA | DUNN
DORN | MELINDA | LUE
DOTRO | SAMUEL | ANTHONY
DOUET | ELIZABETH | ANN
DOUGLAS | ANN | CHOWN
DOYLE | SHEELAGH | PAULINE MARY
DRUMMONDS | SCOTT | BRADY
DRYLAND | SEAN | PATRICK ALFRED
DU PREEZ | CLAIRE | LOUISE
DUBE | STEPHEN | ROGER
DUBOIS MASTERS | CAMILLE | ALIX
DUMONT | PETER | JOHN
DUNANT | JOEL | ALBERT
DUNNING | PAULA | MAE
DURKOVIC | JOEL | ENDRES
DZIUBA | CARTER | JORDAN
E | SHUBIN
EATON | DEBORAH | LYNN
EATON | JENNIFER | ELAINE
EATON | NANCY | ANN
EATON | NATHANIEL | CHARLES
ECKARD | CHRISTOPHER | ALAN
EDEY | HILARY | ANNE
EDIGER | LORIE | SUSAN
EGGER | PATRICIA | CELINE
EGNOT | LESLIE | JEAN
ELBERG | DORIT
ELBERG | GERARD
ELFRINK | WILLEM | PIETER
ELSASSER | LINDA | SUSAN
ELSNER | CLAUDIUS | CONSTANTIN
EMARA | BASEM
ENGEL | TIM | BENJAMIN
ENGELS-PETERSEN | ERIKA
ENGMAN | SHELLEY | ANN
FALCIOLA | VERONIQUE | RAPHAELLE
FAWCETT | ADAH | LAURINE
FEDDEMA | DIANA | LYNN
FENWICK | JULILE | HART
FERGUSON | MARIE | HORIKIRI
FILART | ROSHELLE | ANGELIE
FILINA | ANNA | EVGENIEVNA
FINCH | HEATHER | RENEE
FINLAYSON | SARA | JOY
FIPPS | KYLIE | JENAE
FISCHBACH | MARTINA | MARIA
FISCHBACH | PETER | PAUL
FLEURENT | ALESSANDRA | ELISABETH
FLOYD | RUTH | RINDLER
FLOYER | CHARLOTTE | ELEANOR
FLOYER | PHOEBE | JANE
FOCARDI | RACHELE
FOLEY | ALICIA | NICOLE
FOLKARD | SHEILA | ANN
FORCELLA | MARCO | MARIO
FORD | DYLAN | AVERY
FORRESTER | STEWART | RITCHIE
FORSTERMANN | DOMINIC | PASCAL
FORWARD | JANE | KATHARINE
FOSTER | LORETTA
FOWLER | ELLEN | FRANCES
FRADETTE | ALLISON | GAIL
FRAKES | TIMOTHY | JOHN
FRANK | RACHEL | LYNNE
FRANK | SIMON | GEORGE
FRASER | LELA | ANN FOURNET
FRETHEIM | TIMOTHY | DAVID
FROGGATT | SEAN | STEPHEN
FU | RONGHUI
FU | ZHICHENG
FUEGLISTALER | ELISABETH
FUEGLISTALER | STEPHANIA | LARA
FUNK | MARILYN | SUE
GABEL | MANUEL | PASCAL
GAINES | RODNEY | PAUL
GALANTER | GARRI
GALE | AMY | CATHERINE
GALLAGHER | KATHRYN | ANNE
GAMALETSOS | GEORGE
GASKIN | EDEL | MARGARET
GATCLIFFE | GLENN | PATRICK
GAUTIER | ALEXANDER | CHRISTIAN
GEAGHAN | STEPHEN | BERNARD
GEBHARD-WOWERIES | DANIELA | SANDRA
GEIGER | HARTMUT | JOSEF GERHARD
GEISSLER | HELENA | LARA
GEMKOW | NICO | TOBIAS
GERANSKY | IDA
GERRETSEN | EWOUD
GIAMMINUTI | STEFANIA | BENEDETTA MARIA
GIARD | AMY | NARADATE
GIBBONS | ADRIAN | JOSEPH
GLAYSHER | PAUL | CHRISTOPHER FREDERICK
GLICK | MARIA | ELAINE
GODFROY | TERRY | PATRICK ALLEN
GOHARA | HIROYUKI
GOMME | CHRISTY | ANN
GOMME | STEVEN | GEORGE
GOODHART | ALEXANDER | JASON
GOODING | PRINZE | CARLOS
GORE | KARSTEN | BRADLEY
GORMAN | ALICE | MARIE
GORMAN | DANIEL | ALEXANDER
GOSS | RICHARD | HARVEY
GOSS | SHARON | ELIZABETH
GOTTNER | MICHAEL | JOHN
GRACE | SUSAN | ELIZABETH
GRANOFSKY | ANAIS | BROOKE
GRANT | DAVID | EDWARD
GRANT | JOSHUA | ALLEN
GRASSE | ALVIN | LOWELL
GREBENC | MATTHEW | ROBERT
GREEN | AMY | LOUISE
GREEN | DAVID | RALPH
GREEN | JERRY | RAY
GREEN | MARK | ANDREW
GRIESHABER-OTTO | JAMES | HART
GRIFFIN | TIMOTHY | ALBERT
GRIMSTON | GALLIA | SYLVIANNE ELEONORE
GRONDIN | CAROLINE | MONIQUE
GRONDIN | CLAUDE | MAURICE
GRONDIN | LUCILLE | MONIQUE
GRONDIN | MICHEL | JOSEPH
GUEDON | KATHLEEN | JILL
GULDNER | INGRID | JENNIFER
GUMBLETON | RICHARD | JAMES
GUPTA | AMIT
GUPTA | MAYURI | DEVI
GUTOWSKI | CRAIG | WILLIAM
GUTOWSKI | LUKE | WILLIAM
GWYNN | OLIVIER
HADDOCK | JANET | CAROLE
HAFIZOVIC | ESMA
HAILPERIN | ISAAC
HALDER | HEIDI | ADELE
HALDER | SVEN | PATRICK
HALEY-JONES | ELENE | TERESE
HALL | JAMES | WILLIS
HALLAS | RICHARD | PAUL
HALLE | MARK
HALPERN | MICHELE | CLAIRE
HAMAOKA | KEN
HANDA | KAZUKO
HANKINS | ANDREW | HENRYROBERTS
HARAKAN | MOHAMMED | ADBULLA
HARMON | DAMON
HARPER | IAN | EVERETT
HARPER | RAYMOND | THOMAS
HARRIS | GREGORY | J
HARRYMAN | DAVID | CRAIG
HASHIMOTO | TOMOMI
HATTRICK | JEFFREY | WADE
HAUENSTEIN | ANNE
HAUGHTON | ASHLEY | SUSAN
HAWKINS | REGINE | ANNE
HAWKINS | SARA | JOANNA
HAYDEN | ANNA | RACHEL FERERA
HAYMAN | TERENCE | MITCHELL
HAZELWOOD | KEITH | GLEN
HEALY | KRISTEN | ANDERSON
HEARMON | BRYNA
HEAVER | JOAN | HAZEL
HEBERT | ROGER | PAUL
HEDDEN | YUKO
HEEKS | LINDA | FRANCES
HEES | MARGIT | MARIA
HELLIESEN | MARTHA | KRISTIN
HELLYER | DANIEL | CHARLES
HENDLER | AARON | LLOYD
HENNESSY | GAIL | ANNE
HERBERT | DONNA | FRANCES MCDURMAN
HERDMAN | DOLORES | LORENE
HERZ | MARKUS | HANS
HESSING-LEWIS | JEREMY | PAUL
HEYMAN | RICHARD | DAVID
HEYNEKAMP | MICHIEL | ROBERT
HEYNEKAMP | MOLLEY | LIN
HILL | KEVIN | JOHN
HILL | NANCIE
HILLER | JULIA | CHRISTIANE
HIRAGA | AKI
HIRAKAWA | JURI
HIRAKAWA | KATSUNOBU
HOFFMAN | DOROTHEA | M
HOFSTETTER | MARY | LOUISE
HOLLAND | GEOFFREY | ROBERT NICHOLAS
HOLLY | CHRISTOPHER | MICHAEL
HOLM | NAOMI | KAZUE
HOLMAN | DONALD | ROY
HOLST | WIEBKE
HOPEWELL | JAMES | THOMASON
HOPKINS | MARY | HELEN
HOPKINS | TANYA | ANNE
HOPMANN | NIKLAS | KARL
HORMEL | PETER
HOSKINS | CHRISTOPHER | WAYNE
HOUWER | SETH | CORNELIUS
HOVDEN | MARIE | KAADA
HOWLETT | HILLARY | ANNE
HOWLING | KENNETH | GEORGE
HSU | YUNG | WEI
HU | HSUAN | TEH
HUANG | ANGELA | CHIH WEN
HUANG | VICTORIA
HUDGINS | JASON | LEE
HUNT | GAVIN | JOHN
HUNT | KAY
HURAY | DWISANTI | HATMANTI
HURLEY | DANIEL | JOSEPH
HURST | MARTIN | STANLEY
HURTADO | MARTA | MARIA
HURTADO | PAULA | ISABEL
HUTCHINSON | JAMES | ALEXANDER
HYKIN | JENNIFER | BERRY
HYNDMAN | DIANA | LEE
IHARA | KIYOYUKI
IHILCHIK | REBECCA | GABYE
INKEL | NANCY | THERESE
INVEISS | ALEKS | ANDRIS
IRWIN | AMANDA | MADELINE
ISHIDA | ATSUYA | MARTIN
ISHIMOTO | MICHI
JAGOE | EVA | LYNN
JAIN | NIRMAL
JANG | WONCHEOL
JENKINS | IAN | MICHAEL
JENKINS | SIMON | SPENCER
JENSEN | BENEDIKTE | ELIZABETH
JENSEN | SUSAN | LYN
JI | SHENGJIAN | I
JI | XUHONG
JOHNSON | KERRY | JOAN
JOHNSON | LARISSA | GABRIELLE
JOHNSTON | JUDITH | MARGARET
JOHNSTON | THOMAS | RICHARD
JONES | ANDREW
JONES | ROBIN | LYNN
JONES | THOMAS | WITHELAW
JONES | DANIEL | MAURICE
JONES | LAURA | ELIZABETH
JOSE | DAVID | CHRISTIAN
JOSEPHSON | DAVID | BOYD
JUHALA | ONNI | OLAVI
KAELIN | ALEXANDRA | TANJA
KAN | WING | SI K
KANASKI | MEGAN | ELIZABETH
KANDA | TOMOKO
KAPUSTIN | JASMIN
KATSANOS | FOTENE | T
KATSAOUNIS | ALEXIA | SOFIA
KATZ | JEFFREY | LAWDRIG
KAULFUSS | OLIVER | ERNST TOMASIC
KEARNS | MICHAEL | JAMES
KEENE | KEVIN | WILLIAM
KEIJZER ROLLET | ELISABETH
KELLNER | ELIZABETH | ANN
KELLY | ROXEY | JENNIFER CHRISTIN
KENNEDY | KRISTY | JACKLYN
KENNEDY | RHOEN | GRACE
KENNEWELL | KATHRYN | MARIE
KERR | DEWANA | RAY
KEYNES | YASMINA
KHALFAN | SHAIKHA | SAMEER
KHALFAN | SHARIFA | SAMEER
KHALILI | SHIRIN | FATIMA
KIEREN | DIANNE | KATHRYN
KIEREN | THOMAS | ERVIN
KILLION | SANDIYA | MARGERY LEILA
KILVERT | DAVID | CORY
KILVERT | KRISTA
KIM | JI | TAEK
KIM | KYUNGMIN
KIMPINSKI | BETH | ANN
KING | ELLEN | MEREDITH
KINOSHITA | KUNIO
KIRBY | SHARON | ROSE
KIRSCHKE | NATALIA | CRISTINA
KITAJIMA | KAZUKO
KITAJIMA | YUTAKA
KITCHIN | LINDA | ANNE
KOBAYASHI | AKIKO
KOCH | KEVIN | KIM
KOEHL | JAMI | FLORA
KOENIGSBERG | JOANNA
KOGER | TIMOTHY | ROY
KOKSAL | HAKKI | CEM
KOLKER | MAGALIE | LOUISE
KOMOR | IMRE | MICHAEL RONE
KORTSCHOT | MARK | TIMOTHY
KOSTIUK | CHRISTINE | ALEXANDRA
KOVACHEFF | GREGORY | NICHOLAS
KOWALL | JESSICA | EADIE
KRAMER | LUCAS | DAVID VANDERFIELD
KRUGER | MAAIKE
KRUM | MARTINA | BEVERLY
KUCZYNSKI | ELIZABETH | ANNE
KUDO | HIROKO
KUO | RANDY | LUN-TING
KURNIAWATI | MELANI
KUSHENOV | SERGEY | NALIBEKOVICH
LABEREE | JAMES | BRADY
LAGESTEE | LAURA | MICHELLE
LAING | PAMELA | LOUISE
LAJINESS | DANIEL | CHARLES
LAKE | TERESA | LOIS
LAMARE | DIANA | JEAN
LAMB | DAVID | PLAYTER
LAMBERT | ANDREW | BARRY
LAMIN | CHRISTOPHER | HOWARD
LAMPINEN | RIIKKA | MARJAANA
LANCELOT | JODI | DEBRA CLIMO
LANDRY | GREGG | EDWARD
LANDRY | JEAN | FRANCOIS
LANE | PATRIC | JOHN
LANG | GUNTHER | WOLFGANG
LANGAN | HEATHER | CATHERINE
LANGLOIS | CLAUDE | SIMON
LANGLOIS | FRANCYNE
LANNELONGUE LUGER | CORALIE | ANAIS
LARSEN | CHARLES | EMIL
LARSON | KENT | DUANE
LAVOIE | FREDRICK | ETIENNE
LAWSON | SARAH | LYNN
LEAKE | SHANNON | MARIANI
LEARMONTH | DONALD | BRUCE
LEASS | HERBERT | JONATHAN
LEBLANC | PAUL | JOSEPH
LEE | JAE | HONG
LEE | JUYEON
LEE | SANDRA | LEE
LEITH | JORDAN | DANIEL
LENHOFF | LILLY | M
LENNY | JASON | JAMES
LENZ | DANIEL | LYNDON
LESSARD | CANDACE | HOPE
LEVAND | ERIKA | HELANI
LEVY | BARBARA | HODGE
LEVY | JULIEN | EDOUARD
LEWIS | PAULINE | MONICA
LEWKOWITZ | GIDEON
LIANG | SU | CHI
LIAO | JUI-YEUN | PETER
LIAUW | TIFFANY | PEI-LING
LIECHTI | VERONICA | ISABEL
LIGHT | STEPHEN | JOSLIN
LIN | CHRISTOPHER
LIN | KO | WEI
LINDLBAUER | BRIGITTE
LINEHAN | DANIEL
LINGENFELTER | SHARON | MARIE
LITTLEJOHNS | ANNE | VIRGINIA
LIU | CHEN | WEN
LIU | MING
LIU | SHIRLEY | SHU-PING
LIZOTTE | PIERRE | PAUL
LLOYD-PRICE | SIMON | RHODRI
LOFFREE | TERESA | JEAN
LONG | MICHAEL | ALBERT
LONGNECKER | NANCY | ELLEN
LORME | KENNETH | J
LOUKOPOULOS | LOUKIA | D
LOVE | KIMBERLEY | LOUISE
LOW | CLARISSA
LOWE | KENNETH | ROY
LOWE | PETER | JAMES
LOWE-HOLDER | MICHELLE | ANN
LU | CHU | LIN
LU | ON | SHING CHRISTOPHER
LUBEL HAUBENSAK | MIRIAM | ANGELICA LIANA
LUCHETTA | DAVIDE
LUKJE | CARLEE
LUNN | DAVID | PAUL
LUO | DONGYI
LYNCH | EMMA | JANE
LYONS | GWENNY | SO
LYTLE | ANNE | LOUISE
MAC CLURE | MARIE ANNE | LYON
MACCHARLES | ADRIENNE | DANIELLE
MACDONALD | KRISTA | JANINE
MACEACHERN | NEIL | ALEXANDER
MACKAS | RENAE | HOLM
MACKAY | KRISTA | MALIA
MACKINTOSH | RUTH | ELIZABETH
MACKLIN | MICHAEL | BRIAN
MACLEAN | BEVERLY | ANN
MACRAE | DONALD | CORBETT
MADDOCK | DONNA | MATHES
MAGGIO | MARTIN | FEDERICO
MAHEUX | ANDRE
MAHMUD | NADIR
MAHONEY | MICHAEL | K
MAHONY | LAURIE | ELIZABETH
MAHRT-SMITH | AMELIE | GABRIELE
MAHRT-SMITH | MELANIE | ANN
MAIER | ELIZABETH | RACHEL
MAIER | MICHAEL | PAUL
MAISTER | JACOB | ORIE
MANGILI | ALEXANDRA
MANN | ANDREW | JOHN
MARA | LORENE | ELIZABETH
MARCHEBOIS | KATHRYN | DENISE
MARRIOTT | CHRISTOPHER | GILER BLACKDEN
MARSHALL | PETER | DENZELO
MARSTERS | DAVID | WADE
MARTIMBEAU | STEPHANIE
MARTIN | DANIELLE | MELISSA
MARTIN | GREGORY | MICHAEL
MARZOLF | JULIE | DIANE
MASEK | SCOTT | AXEL ALAN
MASKENS | MATHILDE | NICOLE M
MASTERS | RYAN
MATHIESON | KATHLEEN | ELAINE
MATSUO | CHIKA | M
MAUERSBERGER | GABRIELLA | ANN
MCARDLE | JOHN | PATRICK
MCCANN | MAUREEN | ELIZABETH
MCCORMICK | LINDSAY | ANNE
MCCOWAN | JESSICA | BARNUM
MCFADDEN | BETH | ANN
MCFADDEN | JEFFREY | WADE
MCFADDEN JR | JOHN | JOSEPH
MCFARLANE | MATTHEW | JAMES
MCGRATH | JOHN | MICHAEL
MCINNIS | PETER | STUART
MCKECHNIE | KEVIN | ABDREW
MCNAMEE | DEAN | DANIEL
MCQUEEN | LISA | LYNN
MCRAE | GARY | JAMES
MECLER | JASON | MATTHEU
MEHTA | SUSAN | ELIZABETH
MEISTER | TRETA | MARIE
MELCHER | MARK | RANDALL
MELDRIM | MICHAEL | JOHN
MELTON | MARK | STAFFORD
MENECHELLA | ANTHONY | CARMELO
MENESATTI | CHIARA
MENKES | LIANNE | ROSE
MENZAM | CHERIONNA
MERKLEY | GERALDINE | HELEN
MERONUK | COLIN | DAVID
MESSMER | BIRGITTA | SIEGLINDE
MEYER | BRAD | ROBERT
MEYER | ROBERT | WAYNE
MEYER | SUSAN | LOUISE
MICHALEWICZ | CLAIRE | DUFFY
MICHAUD | JACQUES | CLAUDE CHARLES
MIGCHIELSEN | BETTY | P
MIGCHIELSEN | ROLAND | JOHANNES
MILES | LISA | ANN
MILLAR | SUZANNE | REBECCA
MILLER | DIANE | WILLIAMSON
MILLER | JOSHUA | BENJAMIN
MILLER | NEIL | JOHN
MILLER-DOEBELING | BENJAMIN | ALAN
MILLIKEN | TIMOTHY | PAUL
MILROY | DANIEL | JOHN
MIN | ANDREW | HYUN SEONG
MINDELL | WILLIAM | ROY
MINDRUM | MICHAEL | REID
MITAL | NIMISH
MITCHELL | ANNE
MITCHELL | ELEANOR | CLAIRE
MIYAKE | KAYNE | YOSHIHIRO
MIYAMAE | MICHELLE | ELYSE
MIYAMOTO | YURI
MOKHTARZADEH | UMA
MOLINS | JOAQUIN | MARIA
MOLLARD | JACQUELINE | LEE
MONTAGUE | NEIL | WILLIAM
MONTAGUE | SALLY | ANN
MOOR | OLIVER | MARTIN
MOORE | JANE | CAMPBELL
MOORE | MAGDALENA | DOROTHY KEAN
MOOSA | YAASEEN
MORAVI BOTTOLI | SABINE | CLAUDIA
MORELLI | ROBERT | FRANK
MORF | PATRICIA | MARGARET MILLER
MORRIS | ALISON | JOAN
MORRIS | WILLIAM | FREDERICK
MORRISON | DAVID | JOHN
MORRISON | LUCY | MAY
MORSE | THOMAS | PETER FERNAND
MOSER | CHRISTOPH
MOSS | FREDERICK | ALAN
MOW | KRISTIN | ANGELICA
MUELLER | FRANK
MULLER | FIONA | CHRISTINA
MULLER-BUHLER | STACY | LYNN
MUNZ | GARY | CHRISTOPHER
MURPHY | MEREDITH | JEAN
NAMTVEDT | CAMILLA | SCHJOTT
NAMTVEDT | ERIC | HJALMAR
NAPOLI | LYNDA | GAYE
NASSAUER | THORSTEN
NATALOUKHIN | ANTHONY | PETER
NAZAL PAREDES | TOMAS | BRAHIN
NEARY | AMY | RUTH
NEARY | DANIEL | EDWARD
NEILSON | BRADLEY | ALLEN
NERBONNE | JOHN | ARTHUR
NEUBRONNERQ | MARCUS | TOBIAS
NEVIN | DAVID | ANTHONY
NEWCOMER | D'ARCY | CRANDALL
NG | JASON | DIN LAM
NG | KAE | JIA
NG | SHIRLEY | SUI YEE
NHIEU | NHU | BUOI
NIES | RICHARD | JULIUS
NODA | MIKA
NOONAN | TERYL | LEE
NORTON | NICHOLAS | THOMAS
NUNAN | KEVIN | NICHOLAS
NUSSBAUMER | KIRA | SIBYL TATJANA
OBAYDA | FARIS
O'BRODOVICH | MICHELLE | LYNNE
OERTLI | JACQUELINE
OH | HYUN | KYUNG
OKADA | MASAMI
OLAFSSON | BALDUR | FREYR
OLAK | ANTONIA | MARION
OLSEN | HILDE | OPPENDAL
OLSON | DAVID | AARON THORVALD
O'MALLEY | PAULINE | MARIE
ONODA | ETSUKO
ONODA | HIDEKI
OPLER | MICHAEL | ANDREW
ORD | KAY | LORRAINE
OTIS | GARD | WILLIAMS
OUELLETTE | RENE | GREGOIRE
OWEN | ALASDAIR | ROSS
PACHINGER | LISA | MARIE
PAGE | ANN
PALMER | KIMBERLEY | MARY
PARK | YOUNG | MI
PARKER | ANTHONY | LAWRENCE
PARLEE | MYLES | RONALD
PARRISH | MARK | GUNDRY
PATTERSON | PAUL | JOSEPH
PATY | JO ANNE | HAYMORE
PAULHAN | CAROLINE | ANNE
PENROSE | T | RICHARD
PERNOSKY | BENJAMIN | DARIN
PERTWEE | SEAN | CARL
PETEL | YITZHAK
PETERS | CHERYL | ANN LOUISE
PETERSEN | POUL | BERING
PETROWSKI | JOSEPH | PHILIP
PETTINELLA | DARIO | MICHELE
PETTINELLA | FEDERICO | AMERIGO
PETTINELLA | LEONARDO | PELINO
PETTINELLA | SAVIA | GINA
PHAN | MAGGIE
PHILLIPS | EDWARD | ROOKER
PIERSON | MICHAEL | JERRY
PINARD | ANTHONY | ANDREW
PINASSI | ILYA
PIRACHA | MAHEEN
PLESTED | BENJAMIN | JOHN
PLOCKI | BENJAMIN | WLADYSLAW
PLOCKI | MATTHEW | RICHARD
POIRIER | LEENA | MARIA
POLLACK | RICHARD | DAVID
POON | CHING | WAI
POON | RICHARD | WING-CHEUNG
PORTELLA COUTINHO | CARLOS | FILIPE
PORTER | MARY | CECILIA
POSLUNS | AARON | ZACHARY
PRATT | KATE | PAMELA
PRATT | PAMELA | MARGARET
PREISLER | JEFFREY | NATHAN
PRETEAU | REBEKAH | ANN
PRIESTER | ROBERT | JAMES
PRIMKE | ROBERT | KEVIN
PRINGLE | PAULA | JOSELLE
PRITCHARD | JULIE | STEVENS
PRODUIT | THOMAS | VINCENT
PULVER | HILARY | FLYNN
PURCELL | JAMES
PURNAMA | PHILIP | SUWARDI
QIN | FUHUA
QIN | XIN
QUIK | CHRISTIAAN | PIETER
QUINN | BARBARA | LOU
QUINN | JOHN | JOSEPH
RABIN | SOPHIA | LYNE
RADKE | SARAH | MARIE
RASCOE | OLIVIA | ELIZABETH
RASTOGI | SAURABH
RASTOGI | SHILPA
RECASENS-VARGAS | CRISTINA
REID | SUSAN | LEE
REIDL | HANS-ERICH | MARTIN
REISWIG | AMY | CHRISTINA
RELLA | TIMOTHY | CRAIG
RENDELY | JANE | ELEANOR TOBA
REVERDIN | ALEXANDRA | KATHRYN
RICH | ALICE | PARMELEE
RICH | ROBERTA | ANN
RIEB | LAUNETTE | MARIE
RIESTERER | CAROLINE | LOUISE
RING | JENNIFER | LOUISE
ROBBINS | MEGUMI | S
ROBERTS | KAREN
ROBERTS | MELANIE
ROBERTS | WALTRAUD | ALEXANDRA
ROBICHAUD | PAUL | EDMOND
ROBINSON | KRISTOPHER | K HOMEM DE MELLO
ROBINSON | LYDIA | LAURIE
ROESLER | ROBERTA | RENE
ROLINGHER | LOUISE
RONIMUS | ROBERT | STARR
ROOST | DANIEL
ROSEN | REGINA | SUE
ROSKO | REINA | ELISE
ROTH | CAROLYN
ROTHENBERG | CELIA | ELAINE
ROUSSELLE | VANESSA | ELIZABETH
ROY | ERIC | STOTT
ROY | MARC | ANTOINE
ROYLE | HEATHER | MARY
RUBIN | ADRIANNE
RUGGLES | JUDY | LEE
RUIGENDIJK | JOLANDA
RUNDQUIST | BRANDON | CHARLES
RUTNIN | SANPATNA | SCHEPENS
RUTTEN | HUBERT | PETER
RUUSKA | ANNE | LAURE
RYAN | SHANTAY | EYRONE
RYDER | JENNIFER
SAAB FAOUR | CLODETTE
SACHSENMAIER | TOBY | DEBRA
SADLER | FRANK | GEORGE
SAGAN | STUART | ROSS
SALAMONE | PATRIZIA
SALMERON | AYUMI
SANDERSON | KATHERINE | LOUISE
SANDS | MICHAEL | JOHN
SANTIAGO | DANIEL
SANTUCCI | VICTORIA | ANN
SAPP | LESLIE | EUGENE
SARGEANT | SCOTT | WILLIAM
SARGENT | DOMINIQUE | GROSLIER
SARIDEWI | ELISABETH | INDRIATI
SAUNDERS | DAVID | WILSON
SAUTER | LOUIS | CLYDE
SAVUL | KARIM | ALEXANDER
SAXBERG | AASE | MARGRETHE
SAYLOR | GINEVRA | MIRIAM
SCHALCH | STEPHANIE | ELISABETH
SCHARF | COURTNEY | KATHRYN VIRGINIA
SCHIFFOVA | SARKA | SARKA
SCHILLER | SANDRA | LYNN
SCHMID-OERTEL | MARCEL | ROY
SCHORGE | R | JOSEPH
SCHRADER FRIGG | KAREN | LYNN
SCHRAUBEN | SEAN | ALEXANDER
SCHREINER | PAUL | JONATHAN
SCHWARZ | ANTJE
SEELY | CHARLES | HILTON
SEFERIS | LOUISA | MOUDON
SEGAL | ALAN
SEGAR | ANAND | HARI
SEIERSEN | SHAWN | ERIC
SERRA | SOFIA | AMORIM CERQUEIRA DOS SANT
SETO | JULIE | CHRISTA
SETO | MATTHEW | YUTMEND
SETZ | ADRIAN | MATTHEW
SHAW | MARGARET | ELIZABETH
SHAW | THOMAS | RICHARD CLINTON
SHAYNE | LAUREN | MALCA
SHEMIE | BONNIE | JEAN
SHENKER | HANNAH | RACHEL
SHEPHERD | BARRY | ADRIAN
SHIH | CHENG | HUA
SHIKASHIO | JAMES | KATSUMI
SHING | EUSDEN
SHNIER | MICHELLE
SHOEMAKER | HERMAN | JAY
SHOFF | DENNIS | HOWARD
SHORE | KEVIN | DANIEL
SHPILMAN | FELIX
SHRIMPTON | CLAIRE | MEREDITH
SHRIVASTAVA | MANU | BOGUMIL
SIEBER | MARTIN | ANDREW
SIEGLER | MICHELLE | RENEE
SIEGRIST-LAUCHLI | MARCELLA
SIEMS | CARMEN | SUZANNE
SIGNER | CORINA | GABRIELA
SILLS | FRANKLIN
SIMONI | DYLAN | FABIANO
SIMPSON | MARK | EDWARD
SINCLAIR | JOHN | ALEXANDER
SINCLAIR | MARION | TICKNOR
SIRINIVASAN | BALAJI | SUBBARAMAN
SKELTON | KARENA | DIANE
SLATER | JEFFREY | ALAN
SLATTERY | SAMANTHA | FRANCES
SMALL | AARON | DAVID
SMITH | AMANDA | NICOLE
SMITH | DEAN | WILLIAM
SMITH | LESLEY | ANN
SMITH FLOWER | HEATHER | ANNE
SMOOT | PAUL | PRAGOUT
SNIP | ELIZABETH | LORRAINE
SOJDA | JEFFEREY | SCOTT
SOLOWAY | DEBORAH | LEE
SOUVIRON | LAURENT | NICOLAS
SOWA | BRITTANY | LYNN
SPANGLER | CHARLES | WILLIAM
SPEISSEGGER | MARIA | ELIZABETH
SPICER | ALLISON | DAWN
SPIES | PAMELA | ANNE
SPIGEL | ROBERT | HAYS
SPIGEL | SUSAN | CATHERINE
SPINELLI | JOHN | JOSEPH
SPREEMANN | GARD
SPRING | MICHAEL | SAMUEL
SREEDHARAN | KATHARINE | MARY
SRINIVASAN | BOONSRI | MELISSA DICKINSON
STAEHLI | CAROLINE | PATRICIA
STANNERS | NATHAN | DONALD
STARR | MICHAEL | BRIAN
STEIN PARBURY | MARY | JANE
STEINEBRUNNER | KURT | DALLINGER
STEPHENS | SARAH | ANN
STERRY | BARRY | ALLAN
STERRY | MICHAEL | RYAN LANGAN
STEWART | LILY | TALLULAH ROBERTSON
STIGLER | JOSEPH | MACK
STIRBISKY | MONA | ANN MARIE
STOECKEL | FREDERIC
STOIBER | ANITA | FRANZISKA
STONE | MARTIN | JEREMY
STRAW | VICTORIA | ANNE
SUGINO | YUKIKO
SUITS | PAUL | GORDON
SULLIVAN | HUGH | SEAN
SUMMER | LARKIN | BRIGHAM
SUTTON | ANNABEL | DENISE
SUTTON | CHARLES | MATTHEW
SUWANSIRI | PARAMES
SUZUKI | CHIAKI
SUZUKI | KEIICHIRO
SUZUKI | KEITA | LEON
SWEENEY | DESMOND | HUGH MCLACHLAN
SYKES | CHRISTOPHER | CHARLES
SZEREMETA | WILLIAM
SZETO | MICHELE | KATE
TACOUNI | LORRAINE | INEZ
TAIT (ONEILL) | ELIZABETH | JANE
TALLON | PAMELA | MARIE
TAMBELLINI | GARY | ALBERT
TAN | BERNARD | KIAN MENG
TAN | ERIC | AH LECK
TAN | JACK
TAN BOON TEIK | CHRISTOPHER
TANDARIC | ELIZABETH | LYNNE
TANDARIC | LAURA | KATHRYN
TANDARIC | ROBERT | EDWARD
TANG | YVONNE | WING-SHAN
TAYLOR | GARY | LEE
TAYLOR | LAURA | JEAN
TAYLOR | MATTHEW | STEPHEN
TCHEA | LEE | BOON
TCHWELLA | YARON
TEACHOUT | ANGELINA | SCARLET
TEACHOUT | KEN | BLUE
TEDJA | LEILANI
TEIG | CHRISTIAN | BARTLETT
TELOUDEVA | KSENIA
TETT | BENJAMIN | JOHN
TEXIER | GILLES | MICHEL
THIRUMOORTHI | ILAGO | VELAN
THOMAS | JAY | MICHAEL
THOMAS | JENNIFER | DIANA
THOMAS | MARY | ANNE
THOMAS | CRYSTAL | ANN
THOMPSON SOTO | SANDRA | E
THURLOW | WHITNEY | LEE
TIBER | MITCHELL | RODNEY
TIEMANN BOEGE | IRENE
TIERNEY | JOHN | LAWRENCE
TINKOVA | DASHA
TIPPLE | KEITH
TIPPLE | VALERIE | ANN
TITCHENER | JANET
TITCOMB | KIRSTEN | LEIGH
TOPOR | HAVA | HANA
TOUGAS | NATHANIEL | LAURIER
TOUHEY | MARY | PATTRICIA
TRAUTMAN | JOANNA | FLORENCE
TREFZER | MIRIAM
TRELAWNY-ROSS | CHRISTOPHER | WILLIAM
TREMBLAY | LUC | DANIEL
TREVENA | HARMONY
TROTTER | ELIZA | ANN
TSCHARNER | CAROLINE | URSINA
TSUCHIDA | AMI
TSUCHIDA | REN
TSUJI | ATSUKO
UMBRICO | JULIA | ANN
UPPAL | MONIKA
UPPAL | NAWDESH
UPPAL | NEELAM
VALSECCHI | FRANCESCA | PATRICIA
VAN CROMBRUGGE | YANN | MARCEL FRANCISCU
VAN DE KROL | RONALD | JACOB
VAN DER SLUIJS | JAN | JOHANNES
VAN HALEM | PATRICK | PIETER
VARNEY | RICHARD | ALLEN
VARTIAINEN | VELI | N
VENU | TARA | SAM
VERMA | SUBHASH
VERSCHELDE | NICHOLAS | PATRICK
VET-BEERKENS | MARIE-CLAIRE | A
VIFIAN | ANNE | CLAIRE
VIRDY | KIRAN | KAUR
VITO | JAKE | WILLIAM
VITO | MARGARET | DARLING
VITO | SAMANTHA | ANN
VLESSIDES | CAROLINE | ELIZABETH
VLESSIDES | MICHAEL | PETER
VOKWINCKEL | ERIKA | ANN META
VON BULOW | CHRISTOPH | STEPHAN
VON DER HEYDEN | HEIKE | ELISABETH
VONK | NANCY | LATHROP MILLER
VUCUROVIC | KIMBERLY | CHARLOTTE
WALL | CHERYLIN | MARGARET
WALRAF | ANDY | GUY MIKE
WAMPLER | CELINE | LAURA
WANG | ANDREW | G
WANG | QIANG
WANG | WEI
WARD | BRIAN | DOUGLAS
WARD | DIANE | FRANCES
WARD | MICHAEL | JOHN
WARNER | SUSAN | BAKER
WEATHERBE | JANET | CHRISTINA
WEAVER | LINDA | ELIZABETH
WEBER | PAUL | HANS
WEIDNER | STEFAN
WELCHNER | SHELLEY | ANN
WELLS | KATHLEEN | MARY
WENSLEY | LARAINE | GAIL
WERTHEIM | RUTH | MILLER
WESTMAN | ERAN
WESTON | NICOLE | ELIZABETH
WETTELAND | BEVERLEY | ANN
WHEATLEY | MARCIA
WHITLEY | MARY | JANE
WHITTEMORE | JASON | MICHAEL
WHITTINGTON | MAKENZIE | FAITH
WHITWORTH | EIKO | A
WIDJAJA | HERMAN
WIEHEN | DANIELA | GERTRUD
WILKINS | DONNA | MARIE
WILKINS | GERARD | ANTHONY
WILKINS | MARK | EBERHARDT
WILLARD | L'ANGELIQUE | TERAI A LILOA
WILLIAMS III | KIRK
WILSON | BRADLEY | JAMES
WILSON | LOUISE | HEATHER
WINDER | CATHERINE | MAY
WINDISH | RYAN | LOGAN
WINTEMUTE | DAVID | WAYNE
WITH | THEODOR | LEINE
WITTRIN | MORITZ | HENDRIK
WONG | PHILIPPA | YU WANG
WOOD | JAMES | ROBERT
WOODS | PHILIPPA | DE COSSON
WOOTTEN | EDOUARD | GULLEY JIMSON
WRIGHT | KYLE | LAUREN
WU | CHING | TANG
WU | CHRISTOPHER | HAN YANG
WU | JEAN | CHING
WU | JEFF | JAN-YUAN
WUNSCH | PATRICIA | KATHLEEN
YAGER | SARAH | SUZANNE
YAMAJI | TAKESHI
YAMAURA | AYA
YAO | LORNALI | HUANN-WEI
YOON | HELEN | HEAWON
YOON | SE | WON
YOSHIDA | DOUGLAS | TODD
YOST | ERIKA
YU | JENNY | CHIA HUA
ZANONI | ANNA | HEDY PIERINA
ZARB | JANET | MARY
ZAVIALOV | ILIA | NICOLAEVICH
ZEITER | PATRICK
ZERVOGLOS | CHARALAMBOS | ALEXIS
ZHANG | KEMIN
ZHANG | XIAO
ZHONG | YUJIE
ZHOU | JING
ZIFKIN | BENJAMIN | GORDON
ZINGRAFF | IRA | JOSIAH
ZOLIN | ROXANNE | VIDA
ZVIELI | YOSEF | S
ZWANZIGER | JOSEF | WILSON

Dated: January 23, 2024.
Steven B. Levine,
Manager Team 1940, CSDC—Compliance Support, Development & Communications, LB&I:WEIIC:IIC:T4.

[FR Doc. 2024-01648 Filed 1-26-24; 8:45 am]

BILLING CODE 4830-01-P